DEPARTMENT OF COMMERCE

Foreign-Trade Zones Board

[S-171-2016]

Foreign-Trade Zone 92—Gulfport, Mississippi; Application for Subzone; TopShip, LLC; Gulfport, Mississippi

An application has been submitted to the Foreign-Trade Zones Board (the Board) by the Mississippi Coast Foreign Trade Zone, Inc., grantee of FTZ 92, requesting subzone status for the facility of TopShip, LLC, located in Gulfport, Mississippi. The application was submitted pursuant to the provisions of the Foreign-Trade Zones Act, as amended (19 U.S.C. 81a-81u), and the regulations of the Board (15 CFR part 400). It was formally docketed on December 1, 2016.

The proposed subzone (114.23 acres) is located at 13301 Seaway Road in Gulfport. The proposed subzone would be subject to the existing activation limit of FTZ 92. A notification of proposed production activity has been submitted and is being processed under 15 CFR 400.37 (Doc. B-57-2016).

In accordance with the Board's regulations, Camille Evans of the FTZ Staff is designated examiner to review the application and make recommendations to the Executive Secretary.

Public comment is invited from interested parties. Submissions shall be addressed to the Board's Executive Secretary at the address below. The closing period for their receipt is January 17, 2017. Rebuttal comments in response to material submitted during the foregoing period may be submitted during the subsequent 15-day period to January 31, 2017.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Camille Evans at Camille.Evans@trade.gov or (202) 482-2350.

Dated: December 1, 2016.
Andrew McGilvray,
Executive Secretary.

[FR Doc. 2016-29353 Filed 12-6-16; 8:45 am]

BILLING CODE 3510-DS-P